DEPARTMENT OF COMMERCE

International Trade Administration

Request for Applicants for Appointment to the United States-Brazil CEO Forum

AGENCY: International Trade Administration (ITA), Department of Commerce (DOC).

ACTION: Solicitation of applications.

SUMMARY: In March 2007, the Governments of the United States and Brazil established the U.S.-Brazil CEO Forum (Forum). This notice announces the opportunity for up to twelve individuals for appointment to the U.S. Section of the Forum for a three-year term starting May 1, 2022 and ending May 1, 2025. Nominations received in response to this notice will also be considered for on-going appointments to fill any future vacancies that may arise before May 1, 2025.

DATES: Applications for current consideration should be received no later than the close of business on April 1, 2022. After that date, applications will continue to be accepted through April 30, 2025, to fill any new vacancies that may arise.

ADDRESSES: For inquiries and to request an application, please contact Christopher Di Trolio, Office of Latin America and the Caribbean, U.S. Department of Commerce, by email at Christopher.DiTrolio@trade.gov.

FOR FURTHER INFORMATION CONTACT: Christopher Di Trolio, (202) 823-0530, Office of Latin America and the Caribbean, U.S. Department of Commerce.

SUPPLEMENTARY INFORMATION: The Secretary of Commerce and the Director of the National Economic Council, together with the Brazilian Minister of Economy and the Planalto Casa Civil Minister (Presidential Chief of Staff), co-chair the U.S.-Brazil CEO Forum (Forum), pursuant to the Terms of Reference signed in March 2007 by the U.S. and Brazilian governments, as amended, which set forth the objectives and structure of the Forum. The Terms of Reference may be viewed at: https://www.trade.gov/us-brazil-ceo-forum-terms-reference/. The Forum, consisting of both private and public sector members, brings together leaders of the respective business communities of the United States and Brazil to discuss issues of mutual interest, particularly ways to strengthen the economic and commercial ties between the two countries. The Forum consists of the U.S. and Brazilian Government co-chairs and a Committee comprised of private sector members. The Committee is composed of two Sections, each consisting of approximately ten to twelve members from the private sector, representing the views and interests of the private sector business community in the United States and Brazil. Each government appoints the members to its respective Section. The Committee provides joint recommendations to the two governments that reflect private sector views, needs, and concerns regarding the creation of an economic environment in which their respective private sectors can partner, thrive, and enhance bilateral commercial ties to expand trade between the United States and Brazil.

This notice seeks candidates to fill up to twelve positions on the U.S. Section of the Forum as well as any future vacancies that may arise before May 1, 2025. Each candidate must be the Chief Executive Officer or President, or equivalent chief executive of a company that is: (1) U.S.-owned or controlled, (2) is incorporated in or has its main headquarters or principal place of business in the United States, and (3) is currently conducting business in both countries. Each candidate also must be a U.S. citizen or otherwise legally authorized to work in the United States and able to travel to Brazil and locations in the United States to attend official Forum meetings as well as independent U.S. Section and Committee meetings. Travel and in-person activities are contingent upon safety and health conditions in the United States and Brazil. Should safety or health conditions not be appropriate for travel and/or in-person activities, a meeting may be postponed or a virtual meeting may be scheduled instead. In addition, the candidate must not be registered nor required to be registered as a foreign agent under the Foreign Agents Registration Act of 1938, as amended. Evaluation of applications for membership in the U.S. Section by eligible individuals will be based on who will be best carry out the objectives of the Forum and will include the following criteria:

(1) A demonstrated commitment by the individual's company to the Brazilian market either through exports or investment.

(2) A demonstrated strong interest in Brazil and its economic development.

(3) The ability to offer a broad perspective and business experience to the discussions.

(4) The ability to address cross-cutting issues that affect the entire business community.

(5) The ability to initiate and be responsible for activities in which the Forum will be active.

(6) A demonstrated commitment by the individual and/or the individual's company, particularly through activities in Brazil, to:

• Support inclusive economic growth;

• uphold worker rights and labor standards in its global supply chain;

• tackle the COVID-19 pandemic and bolster public health efforts;

• strengthen the resiliency of U.S. supply chains;

• advance environmental sustainability; and

• address climate change.

The U.S. Section of the Forum should include members who represent a diversity of business sectors. Applications from individuals representing companies in all sectors and of all sizes will be considered.

The Department of Commerce is committed to achieving diversity in the membership of the U.S. Section of the Forum to the maximum extent permitted by law and consistent with the need for balanced industry representation. Where possible, the Department of Commerce will also consider the ethnic, racial, and gender diversity of the United States.

U.S. members will receive no compensation for their participation in Forum-related activities. Individual members will be responsible for all travel and related expenses associated with their participation in the Forum, including attendance at Forum and Section meetings. Only appointed members may participate in official Forum meetings; substitutes and alternates will not be designated. According to the current Terms of Reference, members are normally to serve three-year terms, but may be reappointed. Members serve at the discretion of the Secretary.

To be considered for membership in the U.S. Section, please submit the following information as instructed in the ADDRESSES and DATE captions above: Full legal name(s) and title(s) of the applicant, the applicant company's name, place of incorporation, main headquarters address, and principal place of business address (if different); size of the company; size of company's export trade (at minimum, revenue and employee count), investment, and nature of operations or interest in Brazil; and a brief statement describing the candidate's qualifications that should be considered, including information about the candidate's ability to initiate and be responsible for activities in which the Forum will be active. The application should also include sufficient information to demonstrate the applicant's company is U.S.-owned or controlled, which may include, for example, an affirmation from the company that a majority of its voting stock is owned by U.S. citizens or other U.S. entities, an affirmation that a majority of its board of directors are U.S. citizens, or other indicia of U.S. ownership or control. Candidates who have previously been members of the U.S. Section will need to submit new application materials if they want to be considered. All candidates will be notified once selections have been made.

Authority: 15 U.S.C. 1512.

Dated: February 14, 2022.
Alexander Peacher,
Director for the Office of Latin America & the Caribbean.

[FR Doc. 2022-03519 Filed 2-17-22; 8:45 am]

BILLING CODE 3510-HE-P